NATIONAL ARCHIVES AND RECORDS ADMINISTRATION

[NARA-2022-036]

Freedom of Information Act (FOIA) Advisory Committee Meetings

AGENCY: Office of Government Information Services (OGIS), National Archives and Records Administration (NARA).

ACTION: Notice of Federal advisory committee meetings.

SUMMARY: We are announcing three upcoming Freedom of Information Act (FOIA) Advisory Committee meetings in accordance with the Federal Advisory Committee Act and the second United States Open Government National Action Plan.

DATES: The meetings will be on April 7, 2022, from 10:00 a.m. to 1:00 p.m. Eastern Time (ET); May 5, 2022, from 10:00 a.m. to 1:00 p.m. ET; and June 9, 2022, from 10:00 a.m. to 1:00 p.m. ET. You must register by 11:59 p.m. ET April 5, 2022; 11:59 p.m. ET May 3, 2022; and 11:59 p.m. ET June 7, 2022, to attend the April, May, or June meetings, respectively. (See registration information below.)

ADDRESSES: These meetings will be virtual. We will send access instructions to those who register according to the instructions below.

FOR FURTHER INFORMATION CONTACT: Kirsten Mitchell, Designated Federal Officer for this committee, by email at foia-advisory-committee@nara.gov, or by telephone at 202.741.5775.

SUPPLEMENTARY INFORMATION:

Agenda and meeting materials: We will post all meeting materials at https://www.archives.gov/ogis/foia-advisory-committee/2020-2022-term. These will be the eighth, ninth, and tenth meetings of the 2020-2022 committee term. The purpose of the April 7 and May 5 meetings will be to consider and vote on draft recommendations from the four subcommittees: Classification, Legislation, Process, and Technology. The purpose of the June 9, 2022, meeting, the final of the 2020-2022 committee term, will be to consider the FOIA Advisory Committee's final draft report and recommendations to the Acting Archivist of the United States.

Procedures: These virtual meetings are open to the public in accordance with the Federal Advisory Committee Act (5 U.S.C. app. 2). If you wish to offer oral public comments during the public comments periods of the meeting, you must register in advance (see deadlines in Dates section above) through Eventbrite at https://foiaac-mtg-apr-7-2022.eventbrite.com for the April 7, 2022, meeting; https://foiaac-mtg-may-5-2022.eventbrite.com for the May 5, 2022, meeting; and https://foiaac-mtg-jun-9-2022.eventbrite.com for the June 9, 2022, meeting. Public comments will be limited to three minutes per individual and must relate to the recommendations the Committee is considering.

You must provide an email address so that we can provide you access information. To request additional accommodations (e.g., a transcript or close captioning), email foia-advisory-committee@nara.gov or call 202.741.5775.

Tasha Ford,
Committee Management Officer.

[FR Doc. 2022-05938 Filed 3-18-22; 8:45 am]

BILLING CODE 7515-01-P